SECURITIES AND EXCHANGE COMMISSION

Sunshine Act Meeting

Federal Register Citation of Previous Announcement: [67 FR 54506, August 22, 2002].

Status: Open meeting.

Place: 450 Fifth Street, NW., Washington, DC.

Date and Time of Previously Announced Meeting: Tuesday, August 27, 2002 at 10 a.m.

Change in the Meeting: Deletion of Item.

The following item will not be considered at the open meeting scheduled for Tuesday, August 27, 2002:

The Commission will consider whether to issue a notice of an application from The Mexico Fund, Inc. (the “Fund”) seeking certain exemptions from the Investment Company Act of 1940.

At times, changes in Commission priorities require alterations in the scheduling of meeting items. For further information and to ascertain what, if any, matters have been added, deleted or postponed, please contact: The Office of the Secretary at (202) 942-7070.

Dated: August 27, 2002.
Margaret H. McFarland,
Deputy Secretary.

[FR Doc. 02-22205 Filed 8-27-02; 12:23 am]

BILLING CODE 8010-01-P